CORPORATION FOR NATIONAL AND COMMUNITY SERVICE

Notice of Availability of Funds for AmeriCorps*VISTA Program Grants in the Southwest Cluster

AGENCY: Corporation for National and Community Service.

ACTION: Notice of funding availability.

SUMMARY: The Corporation for National and Community Service (hereinafter the “Corporation”) announces the availability of approximately $1,200,000 in fiscal year 2003 funds to award AmeriCorps*VISTA program grants to eligible nonprofit and public organizations providing services in the Corporation's Southwest cluster (AR, AZ, CO, KS, LA, MO, NM, OK, TX). ). Applicant organizations are not required to be geographically-based in the nine-state southwest cluster, so long as the proposed grant activities will provide services within one or more of those nine states. The Corporation anticipates making between 5 and 8 AmeriCorps*VISTA program grants under this announcement. Each grant budget will support a minimum of 15 and a maximum of 40 AmeriCorps*VISTA members on a full-time basis for one year of service. The Corporation will make awards covering a period not to exceed one year with a potential for an additional two years of funding, contingent upon satisfactory performance, the availability of funds, and other criteria established in the award agreement. These estimates are projections for the guidance of potential applicants. The Corporation is not bound by any estimate in this notice. Publication of this announcement does not obligate the Corporation to award any specific number of grants or to obligate the entire amount of funds available, or any part thereof, for grants under the AmeriCorps*VISTA program. Applicable regulations include the uniform administrative requirements for grants and agreements with institutions of higher education, hospitals, and other nonprofit organizations, 45 CFR part 2543 or the uniform administrative requirements for grants and cooperative agreements to State and local governments, 45 CFR Part 2541.

AmeriCorps*VISTA assigns individuals 18 years and older, on a full-time, year-long basis, to public and private nonprofit organizations whose goals are in accord with AmeriCorps*VISTA's legislative mission. (42 U.S.C. 4951) The purpose of these program grants is to create and expand opportunities for individuals in one of the following two areas: (1) homeland security and (2) seniors in poverty.

Preference will be given to AmeriCorps*VISTA Projects serving as “umbrella sponsorships” where the applicant provides fiscal and programmatic capacity on behalf of small, community-based (secular and faith based) organizations, and/or local sites of the sponsoring organization. Applicants should be local, state or national organizations working alone or in conjunction with local affiliates that share a vision and common goal of working with low-income communities to achieve long-lasting antipoverty objectives. Proposed projects should focus on:

(1) Promotion of partnerships and collaboration between the public and private sectors including businesses, community-based organizations (secular and faith-based) and other service programs;

(2) Recruitment, training, and coordination of local volunteers;

(3) Mobilization of resources needed to support the project; and

(4) Development of a sustainable capacity in local communities.

While there is no specific match requirement, the level of matching contributions will also be considered in the final application selection.

Eligible applicants for AmeriCorps*VISTA program grants supporting these initiatives must be private non-profit or public organizations. AmeriCorps*VISTA sponsoring organizations may apply without affecting the status of their current projects. However, applicants must differentiate between this grant's proposed activities and those of the currently-funded program or pending application. Projects should be state-based (one legal applicant with site(s) in one or more of the nine states in the Southwest region—AR, AZ, CO, KS, LA, MO, NM, OK, TX) to be considered. Eligible nonprofit and public organizations, including those that have not applied for federal assistance from the Corporation in the past, as well as interested community-based organizations (secular and faith-based), are encouraged to apply.

Note: This notice is not a complete description of the activities to be funded or of the application requirements. For supplementary information and application guidelines go to the Corporation's Web site at http://www.cns.gov/whatshot/notices.html. You can also find more information about AmeriCorps*VISTA project sponsorship in general at http://www.americorps.org/vista/sponsorinfo.html.

DATES: Applications must be received at the Corporation by 5 p.m. on August 4, 2003. We anticipate announcing selections under this Notice no later than September 8, 2003.

ADDRESSES: Submit your application to the following address: Corporation for National and Community Service, 120 South Federal Place, #315, Santa Fe, NM 87501. Due to delays in delivery of regular mail to government offices, there is no guarantee that an application sent by regular mail will arrive in time to be considered. We therefore suggest that you use U.S.P.S. priority mail or a commercial overnight delivery service to make sure that you meet the deadline. We will not accept an application that is submitted via facsimile. Applications for AmeriCorps*VISTA will not be accepted via eGrants at this time.

FOR FURTHER INFORMATION CONTACT: Kathie Ferguson at (303) 312-7959. or kferguso@cns.gov. The TDD number is 202-565-2799. For a printed copy of this NOFA and the supplementary information and application guidelines (available on-line), contact Ms. Ferguson at (303) 312-7959. Upon request, this information will be made available in alternate formats for people with disabilities.

Dated: June 26, 2003.
Cindy R. Salavantis,
Acting Director, Office of Field Liaison.

[FR Doc. 03-16624 Filed 7-1-03; 8:45 am]

BILLING CODE 6050-$$-P